ENVIRONMENTAL PROTECTION AGENCY

40 CFR Part 86

[EPA-HQ-OAR-2015-0827; FRL-9966-91-OAR]

Public Hearing for Reconsideration of the Final Determination of the Mid-term Evaluation of Greenhouse Gas Emissions Standards for Model Years 2022-2025 Light-Duty Vehicles

AGENCY: Environmental Protection Agency (EPA).

ACTION: Announcement of public hearing.

SUMMARY: The Environmental Protection Agency (EPA) is announcing a public hearing to be held in Washington, DC on September 6, 2017 for the notice “Request for Comment on Reconsideration of the Final Determination of the Mid-term Evaluation of Greenhouse Gas Emissions Standards for Model Years 2022-2025 Light-duty Vehicles; Request for Comment on Model Year 2021 Greenhouse Gas Emissions Standards” announced August 10, 2017 and projected to be published on August 21, 2017. In the document signed on August 10, 2017, EPA announced that it is reconsidering whether the light-duty vehicle greenhouse gas standards previously established for model years 2022-2025 are appropriate under section 202(a) of the Clean Air Act and invited stakeholders to submit any comments, data, and information they believe are relevant to the Administrator's reconsideration of the January 2017 Mid-term Evaluation Final Determination and in particular, highlight any new information. EPA also requested comment on the separate question of whether the light-duty vehicle greenhouse gas standards established for model year 2021 remain appropriate, regardless of the agency's decision on the Mid-term Evaluation.

DATES: The public hearing will be held on September 6, 2017, at the location noted below under ADDRESSES. The hearing will begin at 9 a.m. and end when all parties present who wish to speak have had an opportunity to do so. Parties wishing to testify at the hearing should notify EPA by August 30, 2017, by sending an email to Hearing Registration_ASD@epa.gov or by contacting the contact person listed below under FOR FURTHER INFORMATION CONTACT. Additional information regarding the hearing appears below under SUPPLEMENTARY INFORMATION:. Any updates made to any aspect of the hearing, including any change to the location of the hearing, will be posted online at https://www.epa.gov/regulations-emissions-vehicles-and-engines/midterm-evaluation-light-duty-vehicle-ghg-emissions. The EPA does not intend to publish a notice in the Federal Register announcing any such updates. Please go to https://www.epa.gov/regulations-emissions-vehicles-and-engines/midterm-evaluation-light-duty-vehicle-ghg-emissions for more information on the public hearing.

ADDRESSES: The hearing will be held at the following location: Renaissance Washington, DC Downtown Hotel, 999 Ninth Street NW., Washington, DC, USA, 20001 (phone number 202-898-9000). A complete set of documents related to the Mid-term Evaluation are available for public inspection through the Federal eRulemaking Portal: https://www.regulations.gov, Docket Identification No. EPA-HQ-OAR-2015-0827. Documents can also be viewed at the EPA Docket Center, located at 1301 Constitution Avenue NW., Room 3334, Washington, DC between 8:30 a.m. and 4:30 p.m., Monday through Friday, excluding legal holidays.

FOR FURTHER INFORMATION CONTACT: Christopher Lieske, Office of Transportation and Air Quality (OTAQ), Assessment and Standards Division (ASD), U.S. Environmental Protection Agency, 2000 Traverwood Drive, Ann Arbor MI 48105; telephone number: (734) 214-4584; fax number: (734) 214-4816; email address: Hearing Registration_ASD@epa.gov.

SUPPLEMENTARY INFORMATION: The purpose of the public hearing is to provide the public an opportunity to present oral comments related to the notice “Request for Comment on Reconsideration of the Final Determination of the Mid-term Evaluation of Greenhouse Gas Emissions Standards for Model Years 2022-2025 Light-duty Vehicles; Request for Comment on Model Year 2021 Greenhouse Gas Emissions Standards” projected to be published on August 21, 2017. Once EPA learns how many people have registered to speak at the public hearing, we will allocate an appropriate amount of time to each participant, allowing time for necessary breaks. In addition, we will reserve a block of time for anyone else in the audience who wants to give testimony. For planning purposes, each speaker should anticipate speaking for no more than five minutes, although we may need to shorten that time if there is a large turnout. We request that you bring two copies of your statement or other material for the EPA panel.

EPA will conduct the hearings informally, and technical rules of evidence will not apply. We will arrange for a written transcript of the hearing and keep the official record for the notice open until the close of the comment period to allow speakers to submit supplementary information. You may make arrangements for copies of the transcripts directly with the court reporter. Panel members may ask clarifying questions during the oral statements but will not respond to the statements at that time. Written statements and supporting information submitted during the comment period will be considered with the same weight as oral comments and supporting information presented at the public hearing. Written comments must be received by the last day of the comment period.

How can I get copies of this document and other related information?

You may learn more about the Mid-term Evaluation by visiting EPA's Web site https://www.epa.gov/regulations-emissions-vehicles-and-engines/midterm-evaluation-light-duty-vehicle-greenhouse-gas-ghg or by searching the Mid-term Evaluation Docket Identification No. EPA-HQ-OAR-2015-0827 at www.regulations.gov.

Dated: August 18, 2017.
Ben Hengst,
Acting Director, Office of Transportation and Air Quality, Office of Air and Radiation.

[FR Doc. 2017-17866 Filed 8-22-17; 8:45 am]

BILLING CODE 6560-60-P